INTERNATIONAL TRADE COMMISSION

Public Input on Improving Agency Procedures

AGENCY: International Trade Commission.

ACTION: Notice and solicitation of written comments

SUMMARY: The United States International Trade Commission invites public input on specific ways in which it could improve its conduct of antidumping and countervailing duty (CVD) injury investigations.

DATES: Written comments are invited to be filed no later than March 4, 2003.

ADDRESSES: A signed original and 14 copies of each set of comments, along with a cover letter, should be submitted to Marilyn R. Abbott, Secretary, United States International Trade Commission, 500 E Street, SW., Room 112, Washington, DC 20436. Hand-delivered comments must be delivered to the prescribed room during the Commission's official business hours (8:45 a.m. to 5:15 p.m.) in order to be deemed filed on the day they are delivered.

FOR FURTHER INFORMATION CONTACT: Marilyn R. Abbott (202-205-2799), Secretary, U.S. International Trade Commission. Hearing-impaired persons can obtain information on this matter by contacting the Commission's TDD terminal on 202-205-1810. General information concerning the Commission also may be obtained by accessing its Internet server (http://www.usitc.gov).

SUPPLEMENTARY INFORMATION: The Commission is an independent federal agency that is charged, inter alia, with conducting import injury investigations under the antidumping and CVD statutes. See title VII of the Tariff Act of 1930 (19 U.S.C. 1671 et seq.). In these investigations, the Commission determines whether a U.S. industry is materially injured, or threatened with material injury, by reason of imports of merchandise that the U.S. Department of Commerce has found to be subsidized or sold at less than fair value. The statutes also provide for a Commission review, after five years, of the continued need for each antidumping or CVD order to prevent or remedy material injury to the relevant U.S. industry.

In the course of an investigation, the Commission, inter alia: (1) Collects data from interested parties (such as domestic and foreign producers, U.S. importers, and purchasers) via written questionnaires and other means; (2) produces a staff report summarizing information collected concerning such indicators as imports, production, shipments, employment, profits and losses, and prices; (3) holds a public hearing (except in preliminary or expedited proceedings); and (4) produces a written opinion explaining the Commission's conclusions on factual and legal issues. The Commission's rules of procedure related to these import injury investigations are set out in the relevant portions of 19 CFR parts 201 and 207.

The Commission is committed to carrying out its mandate in an effective and efficient manner. As part of this commitment, the Commission endeavors to be responsive to the needs of those who avail themselves of the trade laws, those from whom the Commission collects information in its investigations, and the public.

To this end, the Commission is seeking input from the public, including persons and entities that appear before the agency, on ways the Commission can improve its methods of conducting its original antidumping and CVD investigations and its five-year reviews of outstanding antidumping and CVD orders. The Commission is interested in comments concerning all aspects of its investigations and reviews; in particular, questionnaires, hearings, staff reports, schedules and opinions.

With respect to questionnaires, commenters may wish to address whether particular standard questions or requests could be eliminated, reformulated, or streamlined, in order to obtain more relevant information or reduce the burden on those responding to questionnaires. In addition, commenters may wish to comment on electronic filing issues, including electronic questionnaires. With respect to hearings, commenters may wish to address whether a different manner of organizing presentations or commissioner questioning of witnesses would be more effective at clarifying salient issues or adducing relevant information. With respect to staff reports, commenters may wish to address whether the reports could be reorganized or whether certain parts may be made more concise in order to best present the key information collected in the investigation. With respect to schedules, commenters may wish to address whether the schedule could be modified, particularly in final phases of investigations or full five-year reviews, in order to ease the burden on parties, to permit additional briefing in order to clarify salient issues, or to add to the time available after the Commission's hearing. With respect to opinions, commenters may wish to address the organization, format, and content of opinions. The above items are provided as examples only, and are not intended to limit the topics that may be addressed in the comments. Commenters should indicate whether their comments pertain to original investigations, five-year reviews, or both. Comments should be limited to issues of form and procedure and, to the extent possible, should avoid discussion of the substance of particular determinations.

The Commission anticipates that it will hold a public hearing concerning the topics raised in comments submitted pursuant to this notice, although the need for and procedures of a hearing will depend on the comments submitted. The Commission would publish notice of a hearing in the Federal Register, and post notice on the Commission's Web site.

Sample questionnaires for original investigations and five-year reviews can be found at http://info.usitc.gov/oinv/invest/oinvinvest.nsf, and http://info.usitc.gov/oinv/sunset.nsf, respectively. Copies of the generic report outline for both original investigations and five-year reviews are available upon request. Comments must comply with Commission rule 19 CFR 201.8(a)-(d).

This notice is issued pursuant to 19 U.S.C. 1335 and the Commission's Strategic Plan for fiscal years 2001-2006.

Issued: November 27, 2002.
By Order of the Commission.
Marilyn R. Abbott,
Secretary to the Commission.

[FR Doc. 02-30655 Filed 12-3-02; 8:45 am]

BILLING CODE 7020-02-P